DEPARTMENT OF THE INTERIOR

Office of the Secretary

[16XD4523WC DWCFSC000.4A0000 DS68664000 DP.BCQSO.16DOIC4A]

Proposed Renewal of Information Collection: OMB Control Number 1084-0033, Private Rental Survey

AGENCY: Office of the Secretary, Office of Acquisition and Property Management.

ACTION: Notice and request for comments.

SUMMARY: In compliance with section 3506(c)(2)(A) of the Paperwork Reduction Act of 1995, the Office of Acquisition and Property Management, Office of the Secretary, Department of the Interior, has submitted an information collection request to the Office of Management and Budget (OMB) to continue the collection of information for the “Private Rental Survey” OMB Control No. 1084-0033. The information collection request (ICR) describes the nature of the information collection and the expected burden and cost.

DATES: OMB has up to 60 days to approve or disapprove the information collection request, but may respond after 30 days; therefore, public comments should be submitted to OMB by October 19, 2016, in order to be assured of consideration.

ADDRESSES: Submit comments to the Office of Information and Regulatory Affairs, Office of Management and Budget, Attention: Desk Officer for the Department of the Interior (1084-0033), by telefax at (202) 395-5806 or via email to OIRA_submission@omb.eop.gov. Also, please send a copy of your comments to Laura Walters, Quarters Rental Program Manager, 7301 W Mansfield Ave, MS D-2910, Denver, CO 80235, or fax: 303-969-6634, or by email to laura_a_walters@ibc.doi.gov. Individuals providing comments should reference “Private Rental Survey” OMB Control No. 1084-0033.

FOR FURTHER INFORMATION CONTACT: To request more information on this information collection or to obtain a copy of the collection instrument, please write or call Laura Walters, Quarters Rental Program Manager, 7301 W Mansfield Ave, MS D-2910, Denver, CO 80235, or fax: 303-969-6634, or by email to laura_a_walters@ibc.doi.gov. Individuals providing comments should reference “Private Rental Survey” OMB Control No. 1084-0033. To see a copy of the entire ICR submitted to OMB, go to: http://www.reginfo.gov and select Information Collection Review, Currently Under Review.

SUPPLEMENTARY INFORMATION:

I. Abstract

Office of Management and Budget (OMB) regulations at 5 CFR 1320, which implement the Paperwork Reduction Act of 1995 (Pub. L. 104-131), require that interested members of the public and affected parties have an opportunity to comment on information collection and recordkeeping activities. This notice identifies an information collection activity that the Office of Acquisition and Property Management has submitted to OMB for renewal.

Title 5 of the U.S. Code section 5911 authorizes Federal agencies to provide housing for Government employees under specified circumstances. In compliance with OMB Circular A-45 (Revised), Rental and Construction of Government Quarters, a review of private rental market housing rates is required at least once every 5 years to ensure that the rental, utility charges, and charges for related services to occupants of Government Furnished Housing (GFH) are comparable to corresponding charges in the private sector. To avoid unnecessary duplication and inconsistent rental rates, the Department of the Interior, Office of the Secretary, Interior Business Center (on behalf of the Office of Acquisition and Property Management), conducts housing surveys in support of employee housing management programs for the Departments of the Interior (DOI), Agriculture, Commerce, Homeland Security, Justice, Transportation, Health and Human Services, and Veterans Affairs. In this survey, two collection forms are used: OS-2000 covering “Houses—Apartments—Mobile Homes,” and OS-2001 covering “Trailer Spaces.”

This collection of information provides data that is essential for DOI and the other Federal agencies to manage GFH in accordance with the requirements of OMB Circular A-45 (Revised). If this information were not collected from the public, DOI and the other Federal agencies providing GFH would be required to use professional real estate appraisals of private market rental costs, again, in accordance with OMB Circular A-45.

II. Data

(1) Title: Private Rental Survey.

OMB Control Number: 1084-0033.

Current Expiration Date: October 31, 2013.

Type of Review: Information Collection Renewal.

Affected Entities: Individuals or households, Businesses and other for-profit institutions.

Obligation to Respond: Voluntary.

Estimated annual number of respondents: 1,598 for OS-2000 and 285 for OS-2001.

Frequency of response: Annually.

(2) Annual reporting and record keeping burden:

Total annualized reporting per response: 6 minutes for form OS-2000 and 4 minutes for form OS-2001.

Total annualized reporting: 342 hours.

(3) Description of the need and use of the information: This information collection provides the data that enables DOI to determine open market rental costs for GFH. These rates in turn enable DOI and other Federal agencies to set GFH rental rates in accordance with the requirements of OMB Circular A-45 (Revised).

(4) As required under 5 CFR 1320.8(d), a Federal Register notice soliciting comments on the information collection was published on May 5, 2016 (81 FR 27171). No comments were received. This notice provides the public with an additional 30 days in which to comment on the proposed information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques.

“Burden” means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

While you can ask us in your comment to withhold your personal identifying information from public review, we cannot guarantee that we will be able to do so. An agency may not conduct or sponsor, and a person is not required to respond to, a collection of information unless it displays a currently valid Office of Management and Budget control number.

David D. Alspach,
Information Collection Clearance Officer, Office of the Secretary, Department of the Interior.

[FR Doc. 2016-22374 Filed 9-16-16; 8:45 am]

BILLING CODE 4334-63-P